ENVIRONMENTAL PROTECTION AGENCY

40 CFR Part 52

[EPA-HQ-0AR-2007-0510; FRL-8485-7]

Federal Implementation Plans for the Clean Air Interstate Rule: Automatic Withdrawal Provisions

AGENCY: Environmental Protection Agency (EPA).

ACTION: Direct final rule.

SUMMARY: EPA is taking direct final action to amend the Federal Implementation Plans (FIPs) for the Clean Air Interstate Rule (CAIR) to provide for automatic withdrawal of the CAIR FIPs in a State upon the effective date of EPA's approval of a full State implementation plan (SIP) revision meeting the CAIR requirements. All CAIR States are required to revise their SIPs to include control measures to reduce the emissions of nitrogen oxides (NOX) and/or sulfur dioxide (SO2). The EPA issued the CAIR FIPs on April 28, 2006 as a backstop to implement the CAIR in each CAIR State until that State has an EPA-approved CAIR SIP in place to achieve the required reductions. In the FIP rulemaking, EPA stated it would withdraw the FIPs in a State in coordination with the approval of the CAIR SIP for that State.

In this action EPA makes the FIP withdrawal in a State automatic upon approval of the State's full CAIR SIP and to the extent of that approval. EPA believes it is appropriate for the FIP withdrawal to be automatic because to the extent EPA approves the State's full CAIR SIP, this corrects that deficiency that provided the basis for EPA's promulgation of the FIPs in that State.

DATES: The direct final rule is effective on January 16, 2008 without further notice, unless EPA receives adverse comment by December 17, 2007. If EPA receives adverse comment, we will publish a timely withdrawal in the Federal Register informing the public that the rule will not take effect.

Public Hearing: If anyone contacts EPA requesting to speak at a public hearing by November 13, 2007, EPA will hold a public hearing on November 19, 2007 in Research Triangle Park, North Carolina.

ADDRESSES: Submit your comments, identified by Docket ID No. EPA-HQ-OAR-2007-0510, by one of the following methods:

• http://www.regulations.gov: Follow the on-line instructions for submitting comments.

• E-mail: a-and-r-Docket@epa.gov. Attention Docket ID No. EPA-HQ-OAR-2007-0510.

• Fax: (202) 566-9744. Attention Docket ID No. EPA-HQ-OAR-2007-0510.

• Mail: EPA Docket Center, EPA West (Air Docket), Attention Docket ID No. EPA-HQ-OAR-2007-0510, Environmental Protection Agency, Mailcode: 6102T, 1200 Pennsylvania Ave., NW., Washington, DC 20460.

• Hand Delivery: EPA Docket Center (Air Docket), Attention Docket ID No. EPA-HQ-OAR-2007-0510, Environmental Protection Agency, 1301 Constitution Avenue, NW., Room 3334; Washington, DC. Such deliveries are only accepted during the Docket's normal hours of operation, and special arrangements should be made for deliveries of boxed information.

Instructions: Direct your comments to Docket ID No. EPA-HQ-OAR-2007-0510. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

Rulemaking actions related to the CAIR and the CAIR FIPs are also available at the EPA's CAIR Web site at http://www.epa.gov/cair.

FOR FURTHER INFORMATION CONTACT: Carla Oldham, Air Quality Planning Division, Office of Air Quality Planning and Standards, mail code C539-04, Environmental Protection Agency, Research Triangle Park, North Carolina 27711; telephone number: 919-541-3347; fax number: 919-541-0824; e-mail address: oldham.carla@epa.gov.

SUPPLEMENTARY INFORMATION:

Outline

I. Why Is EPA Using a Direct Final Rule?

II. Does This Action Apply to Me?

III. What Should I Consider As I Prepare My Comments?

IV. What Are the Details for the Potential Public Hearing?

V. Availability of Related Information

VI. What Is the Background for This Action?

VII. What Is This Direct Final Rule?

VIII. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer Advancement Act

J. Executive Order 12898: Federal Actions To Address Environmental Justice in Minority Populations and Low-Income Populations

K. Congressional Review Act

L. Judicial Review

I. Why Is EPA Using a Direct Final Rule?

EPA is publishing this rule without a prior proposed rule because we view this as a noncontroversial action and anticipate no adverse comment. Under this rule, the CAIR FIPs in a given State will be automatically withdrawn when, and to the extent, EPA approves a full CAIR SIP for that State. The FIP will not be withdrawn until the State's full CAIR SIP is effective. EPA's authority to promulgate the CAIR FIPs was based on EPA's prior findings that the existing SIPs did not adequately address interstate transport (71 FR 25328, 25338; April 28, 2006). To the extent the full CAIR SIP is approved for a given State, this corrects this deficiency and thus eliminates the basis for the FIPs for that State. Therefore, EPA believes that, following the approval of the full CAIR SIP, the Agency must withdraw the FIPs to the extent of the approval. Further, in the rulemaking promulgating the CAIR FIPs, EPA provided public notice that the withdrawal of the FIPs would be a necessary consequence of the SIP approval. Id. at 25340. Nonetheless, in the “Proposed Rules” section of this Federal Register, we are publishing a separate document that will serve as the proposed rule for this FIP withdrawal final rule action if relevant adverse comments are received on this direct final rule. We will not institute a second comment period on this action. Any parties interested in commenting on that parallel proposal must do so at this time. For further information about commenting on this rule, see the ADDRESSES section of this document.

If EPA receives adverse comment, we will publish a timely withdrawal in the Federal Register informing the public that this direct final rule will not take effect. We would address all public comments in any subsequent final rule based on the proposed rule.

II. Does This Action Apply to Me?

This action does not impose any control requirements. It amends the CAIR FIPs to provide for automatic withdrawal of the CAIR FIPs in a State upon the effective date of EPA's approval of the CAIR SIP for the State. EPA promulgated the CAIR FIPs on April 28, 2006 (71 FR 25328). Categories and entities potentially regulated by the CAIR FIPs include the following:

Category | NAICS code ¹ | Examples of potentially regulated entities
Industry | 221112 | Fossil fuel-fired electric utility steam generating units.
Federal government | ² 221122 | Fossil fuel-fired electric utility steam generating units owned by the Federal government.
State/local/Tribal government | ² 221122 | Fossil fuel-fired electric utility steam generating units owned by municipalities.
| 921150 | Fossil fuel-fired electric utility steam generating units in Indian Country.
¹ North American Industry Classification System.
² Federal, State, or local government-owned and operated establishments are classified according to the activity in which they are engaged.

This table is not intended to be exhaustive, but rather provides a guide for readers regarding entities likely to be regulated by the CAIR FIPs. To determine whether your facility is affected by the CAIR FIPs, you should examine the definitions and applicability criteria in 40 CFR 97.102, 97.104, 97.105, 97.202, 97.204, 97.205, 97.302, 97.304, and 97.305. If you have any questions regarding the applicability of the CAIR FIPs to a particular entity, consult the person listed in the preceding section under FOR FURTHER INFORMATION CONTACT.

III. What Should I Consider as I Prepare My Comments?

A. Submitting CBI

Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for Preparing Your Comments

When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

IV. What Are the Details for the Potential Public Hearing?

If anyone contacts EPA by November 13, 2007, requesting to speak at a public hearing on this action, EPA will hold a public hearing on November 19, 2007 in Research Triangle Park, North Carolina. The EPA will not hold a hearing if one is not requested. Please check EPA's Web page at www.epa.gov/cair on November 14, 2007 for the announcement of whether the hearing will be held.

If there is a public hearing, it will be held at the EPA, Building C, 109 T.W. Alexander Drive, Research Triangle Park, North Carolina, 27709; the room number will be announced on the CAIR Web site at www.epa.gov/cair. Because this is a U.S. government facility, everyone planning to attend the public hearing, if one is held, should be prepared to show valid picture identification to the security staff in order to gain access to the meeting room. If held, the public hearing will begin at 10 a.m. and continue until 5 p.m., if necessary, depending on the number of speakers. The EPA may end the hearing early if all registered speakers have had an opportunity to speak, but no earlier than 2 p.m. Persons wishing to present oral testimony that have not made arrangements in advance should register by 2 p.m. the day of the hearing. Oral testimony will be limited to 5 minutes per commenter. The EPA encourages commenters to provide written versions of their oral testimonies either electronically (on computer disk or CD-ROM) or in paper copy. Verbatim transcripts and written statements will be included in the rulemaking docket.

If you want to request a hearing and present oral testimony at the hearing, you should notify, on or before November 13, 2007, Pam Long, EPA, Office of Air Quality Planning and Standards, Air Quality Policy Division, C504-03, Research Triangle Park, NC 27711, telephone (919) 541-0641, e-mail long.pam@epa.gov. The hearing will be strictly limited to the subject matter of the proposal, the scope of which is discussed below. Any member of the public may file a written comment by the close of the comment period. Written comments should be submitted to Docket ID No. EPA-HQ-OAR 2007-0510 at the addresses given above for submittal of comments. If a hearing is held, the hearing schedule, including the list of speakers, will be posted on EPA's Web page at www.epa.gov/cair. A verbatim transcript of the hearing, if held, and written comments will be made available for copying during normal working hours at the EPA Docket Center address given above for inspection of documents.

V. Availability of Related Information

The official record for this rulemaking, as well as the public version, has been established under Docket ID No. EPA-HQ-OAR-2007-0510 (including comments and data submitted electronically as described below). A public version of this record, including printed, paper versions of electronic comments, which does not include any information claimed as CBI, is available for inspection from 8:30 a.m. to 4:30 p.m., Monday through Friday, excluding legal holidays. The official rulemaking record is located at the address provided in ADDRESSES at the beginning of this document. In addition, the Federal Register rulemaking actions and associated documents are located at www.epa.gov/cair.

The docket for the rulemaking that promulgated the CAIR FIPs Rule is EPA-HQ-OAR-2004-0076. The rulemaking docket for the related CAIR (full title, “Rule to Reduce Interstate Transport of Fine Particulate Matter and Ozone”) is EPA-HQ-OAR-2003-0053. The CAIR FIPs and the CAIR Federal Register rulemaking actions and associated documents are also located at http://www.epa.gov/cair.

VI. What Is the Background for This Action?

In a final rule published on April 25, 2005 (70 FR 21147), effective May 25, 2005, EPA made national findings that States had failed to submit SIPs required under section 110(a)(2)(D)(i) of the CAA to address interstate transport with respect to the PM2.5 and 8-hour ozone NAAQS. These SIPs were due in July 2000, 3 years after the promulgation of the 1997 PM2.5 and 8-hour ozone NAAQS. The national findings started a 2-year clock for EPA to promulgate FIPs to address the requirements of section 110(a)(2)(D)(i) in all the States. Under section 110(c)(1), EPA may issue a FIP for any such State any time after such findings are made and must do so unless a SIP revision correcting the deficiency is approved by EPA before the FIP is promulgated.

On May 12, 2005 (70 FR 25162), EPA issued the CAIR, in which it determined that emissions from 28 States and the District of Columbia (collectively, CAIR States) are contributing significantly to nonattainment of the fine particle (PM2.5) and/or 8-hour ozone national ambient air quality standards (NAAQS) in downwind States. The CAIR also determined the levels of NOX and SO2 emissions reduction requirements necessary for CAIR-affected States to eliminate their significant contribution to downwind nonattainment of the 8-hour ozone and PM2.5 NAAQS. (See also CAIR revisions on April 28, 2006; 71 FR 25328 and December 13, 2006; 71 FR 74792.) NOX emissions are precursors to 8-hour and PM2.5; SO2 emissions are precursors to PM2.5. All CAIR States were required to submit their SIPs to satisfy the CAIR requirements by September 11, 2006. For States subject to the CAIR requirements, an approved CAIR SIP will satisfy, to the extent it is approved, the section 110(a)(2)(D)(i) requirements discussed in the April 25, 2005 findings action.

In a final rule published on April 28, 2006 (71 FR 25328), EPA promulgated FIPs as a backstop to implement the CAIR requirements in all CAIR States. As the control requirement for the FIPs, EPA adopted the model trading rules for EGUs that EPA provided in CAIR as a control option for States, with minor changes to account for Federal rather than State implementation. The FIPs will regulate EGUs in the affected States and achieve the emissions reduction requirements established by the CAIR until States have EPA-approved SIPs to achieve the reductions. In the FIP preamble, EPA stated it would withdraw the FIPs in a State in coordination with the approval of the CAIR SIP for that State. To the extent EPA approves a full CAIR SIP for a State, this eliminates the basis for CAIR FIP for the State, which EPA promulgated as a result of the April 25, 2005 findings.

In promulgating the FIPs, EPA explained that the FIPs do not limit the options available to States to meet the requirements of the CAIR. EPA explained that it intended to avoid taking any steps to implement FIP requirements that could impact a State's ability to regulate their sources in a different manner until a year after the CAIR SIP submission deadline (71 FR 25330-25331). EPA further explained that States could replace the FIPs requirements at a later time.

The CAIR FIPs also provide that States may submit “abbreviated” SIP revisions to replace or supplement specific elements of the FIPs, leaving the remainder of the overall FIPs in place, rather than submitting full CAIR SIP revisions that replace the FIPs. The abbreviated SIP revisions, when approved, will automatically replace or supplement the corresponding CAIR FIP provisions. (See 71 FR at 25345-25346 for further details.) The automatic withdrawal provisions of this rule only apply to EPA approval of full CAIR SIPs. This rule does not affect the interaction between the abbreviated CAIR SIP provisions and the CAIR FIPs (which remain in place following approval of an abbreviated SIP).

VII. What Is This Direct Final Rule?

In this direct final rule, EPA is revising the CAIR FIPs to provide that the FIPs will be automatically withdrawn in a State upon the effective date of EPA's approval of the State's full CAIR SIP and to the extent of that approval. If EPA only partially approves the State's full CAIR SIP submittal, then the FIP will be automatically withdrawn only to the extent of the partial approval. If EPA conditionally approves a full CAIR SIP, this automatic withdrawal provision will have no impact on the FIP, which will remain in place pending further action by EPA. If necessary, in any action approving a full CAIR SIP, EPA will provide additional details regarding the effect of the approval action on the status of the FIPs in that State.

One scenario under which EPA might partially approve and partially disapprove a SIP involves full CAIR SIPs on which EPA takes final action after EPA has already begun allocating NOX allowances under the FIP. For example, if the State submits a SIP that adopts the model cap-and-trade programs for EGUs and EPA takes final action on the SIP after EPA has allocated NOX allowances for 2009 under the FIP, but before it has allocated any other allowances, EPA likely would disapprove the portions of the SIP relating to the allocation of 2009 NOX allowances. The disapproval of the 2009 NOX allocations would be necessary to prevent excess and duplicative NOX allowances from entering the trading program. (See Section VI.F.1. of the CAIR FIPs Rule for the schedule for recording NOX allocations in sources' accounts (71 FR 25352))

Under this scenario, because EPA would disapprove the portions of the full CAIR SIP relating to the allocation of 2009 NOX allowances, the corresponding portions of the FIP providing EPA with authority to allocate 2009 NOX allowances (including the authority to allocate NOX allowances from the new unit set-aside, which would not be allocated by EPA until early 2009) would remain in place. However, EPA would approve the remainder of the SIP if it were found to be adequate, and thus the remainder of the FIP would be automatically withdrawn. There would be no penalties or negative consequences for the State associated with this partial SIP disapproval, and the State would not need to take any further corrective SIP action.

EPA does not anticipate conditionally approving any full CAIR SIPs. However, should EPA do so, EPA will address the impact of the conditional approval on the status of the CAIR FIPs in that State at that time. At this time, EPA is not proposing to automatically withdraw the FIP for a State based on conditional approval of a SIP for that State because a conditional approval carries the risk that it will convert to a disapproval in 1 year if the State does not address the specified conditions by that time.

The EPA believes it is appropriate to make the CAIR FIP withdrawal automatic in a State upon the effective date of the approval of the State's full CAIR SIP because once EPA approves a State's full CAIR SIP, EPA no longer has authority for the CAIR FIP in that State to the extent of that approval. Once the full CAIR SIP is effective and sources in the State are subject to the SIP, EPA's withdrawal of the appropriate portions of the CAIR FIPs has no practical consequences. Further, making the FIP withdrawal automatic upon full CAIR SIP approval will provide immediate clarity to affected sources as to their control requirements and conserve Agency resources that would otherwise be needed to conduct numerous nondiscretionary, noncontroversial FIP withdrawal rulemakings.

VIII. Statutory and Executive Order Reviews

A. Executive Order 12866: Regulatory Planning and Review

This action is not a “significant regulatory action” under the terms of Executive Order 12866 (58 FR 51735, October 4, 1993) and is therefore not subject to review under the Executive Order.

B. Paperwork Reduction Act

This action does not impose any new information collection burden. This action amends the CAIR FIPs to provide for automatic withdrawal of the CAIR FIPs in a State once the State's CAIR SIP is in place. EPA believes that the Paperwork Reduction Act (44 U.S.C. 3501 et seq.) requirements of the existing CAIR FIPs rule are satisfied through the Information Collection Request (ICR) (EPA ICR number 2152.02; OMB control number 2060-0570) submitted to the OMB for review and approval as part of the CAIR (70 FR 25162-25405) and approved by the OMB in September 2005. A copy of the OMB approved Information Collection Request (ICR) may be obtained from Susan Auby, Collection Strategies Division; U.S. Environmental Protection Agency (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this rule on small entities, small entity is defined as: (1) A small business “as defined by the Small Business Administration's (SBA) regulations at 13 CFR 121.201;” (2) a small governmental jurisdiction that is a government of a city, county, town, school district or special district with a population of less than 50,000; and (3) a small organization that is any not-for-profit enterprise which is independently owned and operated and is not dominant in its field.

After considering the economic impacts of this direct final rule on small entities, I certify that this action will not have a significant economic impact on a substantial number of small entities. This direct final rule does not impose new requirements on any entities, but instead provides for the automatic withdrawal of the CAIR FIPs in certain circumstances. Thus, it does not impose any requirements on small entities.

D. Unfunded Mandates Reform Act

Title II of the Unfunded Mandates Reform Act of 1995 (UMRA), P.L. 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any 1 year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

This rule contains no Federal mandates (under the regulatory provisions of Title II of the UMRA) for State, local, or tribal governments or the private sector. The rule imposes no enforceable duty on any State, local or tribal governments or the private sector; but would provide automatic withdrawal of the CAIR FIPs in certain circumstances. Thus, this rule is not subject to the requirements of sections 202 and 205 of the UMRA.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. This rule imposes no enforceable duty on any State, local or tribal governments or the private sector. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” This direct final rule does not have tribal implications, as specified in Executive Order 13175 because it imposes no enforceable duty on any State, local or tribal governments or the private sector. Thus, Executive Order 13175 does not apply to this rule.

G. Executive Order 13045: Protection of Children From Environmental Health and Safety Risks

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

EPA interprets Executive Order 13045 as applying only to those regulatory actions that are based on health or safety risks, such that the analysis required under section 5-501 of the Order has the potential to influence the regulation. This rule is not subject to Executive Order 13045 because it does not establish an environmental standard intended to mitigate health or safety risks.

H. Executive Order 13211: Actions That Significantly Affect Energy Supply, Distribution, or Use

This rule is not subject to Executive Order 13211, “Actions Concerning Regulations That Significantly Affect Energy Supply, Distribution, or Use” (66 FR 28355 (May 22, 2001)) because it is not a significant regulatory action under Executive Order 12866.

I. National Technology Transfer Advancement Act

Section 12(d) of the National Technology Transfer and Advancement Act of 1995 (“NTTAA”), Public Law No. 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This direct final rulemaking does not involve technical standards. Therefore, EPA did not consider the use of any voluntary consensus standards.

J. Executive Order 12898: Federal Actions To Address Environmental Justice in Minority Populations and Low-Income Populations

Executive Order 12898 (59 FR 7629 (Feb. 16, 1994)) establishes federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. This rule imposes no enforceable duty on any State, local or tribal governments or the private sector. It will neither increase nor decrease environmental protection.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective January 16, 2008.

L. Judicial Review

Under CAA section 307(b), judicial review of this final action is available only by filing a petition for review in the U.S. Court of Appeals for the District of Columbia Circuit on or before January 2, 2008. Under CAA section 307(d)(7)(B), only those objections to the final rule that were raised with specificity during the period for public comment may be raised during judicial review. Moreover, under CAA section 307(b)(2), the requirements established by this final rule may not be challenged separately in any civil or criminal proceedings brought by EPA to enforce these requirements.

List of Subjects in 40 CFR Part 52

Environmental protection, Administrative practice and procedure, Air pollution control, Electric utilities, Intergovernmental relations, Nitrogen oxides, Ozone, Particulate matter, Reporting and recordkeeping requirements, Sulfur dioxide.

Dated: October 17, 2007.
Stephen L. Johnson,
Administrator.

For the reasons set forth in the preamble, part 52 of chapter I of title 40 of the Code of Federal Regulations is amended as follows:

PART 52—[AMENDED]

1. The authority citation for part 52 continues to read as follows:

Authority: 42 U.S.C. 7401 et seq.

Subpart A—General Provisions

2. Section 52.35 is revised to read as follows:

§ 52.35 What are the requirements of the Federal Implementation Plans (FIPs) for the Clean Air Interstate Rule (CAIR) relating to emissions of nitrogen oxides?

(a)(1) The Federal CAIR NOX Annual Trading Program provisions of part 97 of this chapter constitute the Clean Air Interstate Rule Federal Implementation Plan provisions that relate to annual emissions of nitrogen oxides (NOX). Each State that is described in § 51.123(c)(1) and (2) of this chapter received a finding by the Administrator that the State failed to submit a State Implementation Plan (SIP) to satisfy the requirements of section 110(a)(2)(D)(i)(I) of the Clean Air Act for the PM2.5 NAAQS. The provisions of subparts AA through II of part 97 of this chapter, regarding the CAIR NOX Annual Trading Program, apply to the sources in each of these States that has not promulgated a SIP approved by the Administrator as correcting that deficiency. Following promulgation of an approval by the Administrator of a State's SIP as meeting the requirements of CAIR for PM2.5 relating to NOX under § 51.123 of this chapter, these provisions of part 97 of this chapter will no longer apply to the sources in that State, except to the extent the Administrator's approval of the SIP is partial or conditional or unless such approval is under § 51.123(p) of this chapter.

(2) Notwithstanding any provisions of paragraph (a)(1) of this section, if, at the time of such approval of the State's SIP, the Administrator has already allocated any CAIR NOX allowances to sources in the State for any years, the provisions of part 97 of this chapter authorizing the Administrator to complete the allocation of CAIR NOX allowances for those years shall continue to apply, unless the Administrator approves a SIP that provides for the allocation of the remaining CAIR NOX allowances for those years.

(b)(1) The Federal CAIR NOX Ozone Season Trading Program provisions of part 97 of this chapter constitute the Clean Air Interstate Rule Federal Implementation Plan provisions that relate to emissions of nitrogen oxides (NOX) during the ozone season, as defined in § 97.302 of this chapter. Each State that is described in § 51.123(c)(1) and (3) of this chapter received a finding by the Administrator that the State failed to submit a State Implementation Plan (SIP) to satisfy the requirements of section 110(a)(2)(D)(i)(I) of the Clean Air Act for the 8-hour ozone NAAQS. The provisions of subparts AAAA through IIII of part 97 of this chapter, regarding the CAIR NOX Ozone Season Trading Program, apply to sources in each of these States that has not promulgated a SIP revision approved by the Administrator as correcting that deficiency. Following promulgation of an approval by the Administrator of a State's SIP as meeting the requirements of CAIR for ozone relating to NOX under § 51.123 of this chapter, these provisions of part 97 of this chapter will no longer apply to sources in that State, except to the extent the Administrator's approval of the SIP is partial or conditional or unless such approval is under § 51.123(ee) of this chapter.

(2) Notwithstanding any provisions of paragraph (b)(1) of this section, if, at the time of such approval of the State's SIP, the Administrator has already allocated any CAIR NOX Ozone Season allowances to sources in the State for any years, the provisions of part 97 of this chapter authorizing the Administrator to complete the allocation of CAIR NOX Ozone Season allowances for those years shall continue to apply, unless the Administrator approves a SIP that provides for the allocation of the remaining CAIR NOX Ozone Season allowances for those years.

(c) The provisions of this section do not invalidate or otherwise affect the obligations of States, emissions sources, or other responsible entities with respect to all portions of plans approved or promulgated under this part or the obligations of States under the requirements of §§ 51.123 and 51.125 of this chapter.

(d)(1) The States with SIPs approved by the Administrator as meeting the requirements of CAIR for PM2.5 relating to NOX under § 51.123(o) of this chapter are: [STATE NAME].

(2) The States with SIPs approved by the Administrator as meeting the requirements of CAIR for ozone relating to NOX under § 51.123(aa) of this chapter, are: [STATE NAME].

3. Section 52.36 is revised to read as follows:

§ 52.36 What are the requirements of the Federal Implementation Plans (FIPs) for the Clean Air Interstate Rule (CAIR) relating to emissions of sulfur dioxide?

(a) The Federal CAIR SO2 Trading Program provisions of part 97 of this chapter constitute the Clean Air Interstate Rule Federal Implementation Plan provisions for emissions of sulfur dioxide (SO2). Each State that is described in § 51.124(c) of this chapter is subject to a finding by the Administrator that the State failed to submit a State Implementation Plan (SIP) to satisfy the requirements of section 110(a)(2)(D)(i)(I) of the Clean Air Act for the PM2.5 NAAQS. The provisions of subparts AAA through III of part 97 of this chapter, regarding the CAIR SO2 Trading Program, apply to sources in each of these States that has not promulgated a SIP revision approved by the Administrator as correcting that deficiency. Following promulgation of an approval by the Administrator of a State's SIP as meeting the requirements of CAIR for PM2.5 relating to SO2 under § 51.124 of this chapter, these provisions of part 97 of this chapter will no longer apply to sources in that State, except to the extent the Administrator's approval of the SIP is partial or conditional or unless such approval is under § 51.124(r) of this chapter.

(b) The provisions of this section do not invalidate or otherwise affect the obligations of States, emissions sources, or other responsible entities with respect to all portions of plans approved or promulgated under this part or the obligations of States under the requirements of §§ 51.124 and 51.125 of this chapter.

(c) The States with SIPs approved by the Administrator as meeting the requirements of CAIR for PM2.5 relating to SO2 under § 51.124(o) of this chapter are: [STATE NAME]

Subpart B—Alabama

4. Section 52.54 is revised to read as follows:

§ 52.54 Interstate pollutant transport provisions; What are the FIP requirements for decreases in emissions of nitrogen oxides?

(a)(1) The owner and operator of each source located within the State of Alabama and for which requirements are set forth under the Federal CAIR NOX Annual Trading Program in subparts AA through II of part 97 of this chapter must comply with such applicable requirements. The obligation to comply with these requirements in part 97 of this chapter will be eliminated by the promulgation of an approval by the Administrator of a revision to the Alabama State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Alabama and for which requirements are set forth under the Federal CAIR NOX Ozone Season Trading Program in subparts AAAA through IIII of part 97 of this chapter must comply with such applicable requirements. The obligation to comply with these requirements in part 97 of this chapter will be eliminated by the promulgation of an approval by the Administrator of a revision to the Alabama State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

5. Section 52.55 is revised to read as follows:

§ 52.55 Interstate pollutant transport provisions; What are the FIP requirements for decreases in emissions of sulfur dioxide?

The owner and operator of each SO2 source located within the State of Alabama and for which requirements are set forth under the Federal CAIR SO2 Trading Program in subparts AAA through III of part 97 of this chapter must comply with such applicable requirements. The obligation to comply with these requirements in part 97 of this chapter will be eliminated by the promulgation of an approval by the Administrator of a revision to the Alabama State Implementation Plan as meeting the requirements of CAIR for PM2.5 relating to SO2 under § 51.124 of this chapter, except to the extent the Administrator's approval is partial or conditional or unless such approval is under § 51.124(r) of this chapter.

Subpart E—Arkansas

6. Section 52.184 is revised to read as follows:

§ 52.184 Interstate pollutant transport provisions; What are the FIP requirements for decreases in emissions of nitrogen oxides?

(a)(1) The owner and operator of each NOX source located within the State of Arkansas and for which requirements are set forth under the Federal CAIR NOX Ozone Season Trading Program in subparts AAAA through IIII of part 97 of this chapter must comply with such applicable requirements. The obligation to comply with these requirements in part 97 of this chapter will be eliminated by the promulgation of an approval by the Administrator of a revision to the Arkansas State Implementation Plan (SIP) as meeting the requirements of CAIR for ozone relating to NOX under § 51.123 of this chapter, except to the extent the Administrator's approval is partial or conditional or unless such approval is under § 51.123(ee) of this chapter.

(2) Notwithstanding any provisions of paragraph (a)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

(b) [Reserved]

Subpart H—Connecticut

7. Section 52.386 is revised to read as follows:

§ 52.386 Interstate pollutant transport provisions; What are the FIP requirements for decreases in emissions of nitrogen oxides?

(a)(1) The owner and operator of each NOX source located within the State of Connecticut and for which requirements are set forth under the Federal CAIR NOX Ozone Season Trading Program in subparts AAAA through IIII of part 97 of this chapter must comply with such applicable requirements. The obligation to comply with these requirements in part 97 of this chapter will be eliminated by the promulgation of an approval by the Administrator of a revision to the Connecticut State Implementation Plan (SIP) as meeting the requirements of CAIR for ozone relating to NOX under § 51.123 of this chapter, except to the extent the Administrator's approval is partial or conditional or unless such approval is under § 51.123(ee) of this chapter.

(2) Notwithstanding any provisions of paragraph (a)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

(b) [Reserved]

Subpart I—Delaware

8. Section 52.440 is revised to read as follows:

§ 52.440 Interstate pollutant transport provisions; What are the FIP requirements for decreases in emissions of nitrogen oxides?

(a)(1) The owner and operator of each source located within the State of Delaware and for which requirements are set forth under the Federal CAIR NOX Annual Trading Program in subparts AA through II of part 97 of this chapter must comply with such applicable requirements. The obligation to comply with these requirements in part 97 of this chapter will be eliminated by the promulgation of an approval by the Administrator of a revision to the Delaware State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Delaware and for which requirements are set forth under the Federal CAIR NOX Ozone Season Trading Program in subparts AAAA through IIII of part 97 of this chapter must comply with such applicable requirements. The obligation to comply with these requirements in part 97 of this chapter will be eliminated by the promulgation of an approval by the Administrator of a revision to the Delaware State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

9. Section 52.441 is revised to read as follows:

§ 52.441 Interstate pollutant transport provisions; What are the FIP requirements for decreases in emissions of sulfur dioxide?

The owner and operator of each SO2 source located within the State of Delaware and for which requirements are set forth under the Federal CAIR SO2 Trading Program in subparts AAA through III of part 97 of this chapter must comply with such applicable requirements. The obligation to comply with these requirements in part 97 of this chapter will be eliminated by the promulgation of an approval by the Administrator of a revision to the Delaware State Implementation Plan as meeting the requirements of CAIR for PM2.5 relating to SO2 under § 51.124 of this chapter, except to the extent the Administrator's approval is partial or conditional or unless such approval is under § 51.124(r) of this chapter.

Subpart J—District of Columbia

10. Section 52.484 is revised to read as follows:

§ 52.484 Interstate pollutant transport provisions; What are the FIP requirements for decreases in emissions of nitrogen oxides?

(a)(1) The owner and operator of each source located within the District of Columbia and for which requirements are set forth under the Federal CAIR NOX Annual Trading Program in subparts AA through II of part 97 of this chapter must comply with such applicable requirements. The obligation to comply with these requirements in part 97 of this chapter will be eliminated by the promulgation of an approval by the Administrator of a revision to the District of Columbia State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the District of Columbia's SIP, the Administrator has already allocated CAIR NOX allowances to sources in the District of Columbia for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the District of Columbia and for which requirements are set forth under the Federal CAIR NOX Ozone Season Trading Program in subparts AAAA through IIII of part 97 of this chapter must comply with such applicable requirements. The obligation to comply with these requirements in part 97 of this chapter will be eliminated by the promulgation of an approval by the Administrator of a revision to the District of Columbia State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the District of Columbia's SIP, the Administrator has already allocated CAIR NOX Ozone Season allowances to sources in the District of Columbia for any years, the provisions of part 97 of this chapter authorizing the Administrator to complete the allocation of CAIR NOX Ozone Season allowances for those years shall continue to apply, unless the Administrator approves a SIP provision that provides for the allocation of the remaining CAIR NOX Ozone Season allowances for those years.

11. Section 52.485 is revised to read as follows:

§ 52.485 Interstate pollutant transport provisions; What are the FIP requirements for decreases in emissions of sulfur dioxide?

The owner and operator of each SO2 source located within the District of Columbia and for which requirements are set forth under the Federal CAIR SO2 Trading Program in subparts AAA through III of part 97 of this chapter must comply with such applicable requirements. The obligation to comply with these requirements in part 97 of this chapter will be eliminated by the promulgation of an approval by the Administrator of a revision to the District of Columbia State Implementation Plan as meeting the requirements of CAIR for PM2.5 relating to SO2 under § 51.124 of this chapter, except to the extent the Administrator's approval is partial or conditional or unless such approval is under § 51.124(r) of this chapter.

Subpart K—Florida

12. Section 52.540 is revised to read as follows:

§ 52.540 Interstate pollutant transport provisions; What are the FIP requirements for decreases in emissions of nitrogen oxides?

(a)(1) The owner and operator of each source located within the State of Florida and for which requirements are set forth under the Federal CAIR NOX Annual Trading Program in subparts AA through II of part 97 of this chapter must comply with such applicable requirements. The obligation to comply with these requirements in part 97 of this chapter will be eliminated by the promulgation of an approval by the Administrator of a revision to the Florida State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Florida and for which requirements are set forth under the Federal CAIR NOX Ozone Season Trading Program in subparts AAAA through IIII of part 97 of this chapter must comply with such applicable requirements. The obligation to comply with these requirements in part 97 of this chapter will be eliminated by the promulgation of an approval by the Administrator of a revision to the Florida State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

13. Section 52.541 is revised to read as follows:

§ 52.541 Interstate pollutant transport provisions; What are the FIP requirements for decreases in emissions of sulfur dioxide?

The owner and operator of each SO2 source located within the State of Florida and for which requirements are set forth under the Federal CAIR SO2 Trading Program in subparts AAA through III of part 97 of this chapter must comply with such applicable requirements. The obligation to comply with these requirements in part 97 of this chapter will be eliminated by the promulgation of an approval by the Administrator of a revision to the Florida State Implementation Plan as meeting the requirements of CAIR for PM2.5 relating to SO2 under § 51.124 of this chapter, except to the extent the Administrator's approval is partial or conditional or unless such approval is under § 51.124(r) of this chapter.

Subpart L—Georgia

14. Section 52.584 is revised to read as follows:

§ 52.584 Interstate pollutant transport provisions; What are the FIP requirements for decreases in emissions of nitrogen oxides?

(a)(1) The owner and operator of each source located within the State of Georgia and for which requirements are set forth under the Federal CAIR NOX Annual Trading Program in subparts AA through II of part 97 of this chapter must comply with such applicable requirements. The obligation to comply with these requirements in part 97 of this chapter will be eliminated by the promulgation of an approval by the Administrator of a revision to the Georgia State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b) [Reserved]

15. Section 52.585 is revised to read as follows:

§ 52.585 Interstate pollutant transport provisions; What are the FIP requirements for decreases in emissions of sulfur dioxide?

The owner and operator of each SO2 source located within the State of Georgia and for which requirements are set forth under the Federal CAIR SO2 Trading Program in subparts AAA through III of part 97 of this chapter must comply with such applicable requirements. The obligation to comply with these requirements in part 97 of this chapter will be eliminated by the promulgation of an approval by the Administrator of a revision to the Georgia State Implementation Plan as meeting the requirements of CAIR for PM2.5 relating to SO2 under § 51.124 of this chapter, except to the extent the Administrator's approval is partial or conditional or unless such approval is under § 51.124(r) of this chapter.

Subpart O—Illinois

16. Section 52.745 is revised to read as follows:

§ 52.745 Interstate pollutant transport provisions; What are the FIP requirements for decreases in emissions of nitrogen oxides?

(a)(1) The owner and operator of each source located within the State of Illinois and for which requirements are set forth under the Federal CAIR NOX Annual Trading Program in subparts AA through II of part 97 of this chapter must comply with such applicable requirements. The obligation to comply with these requirements in part 97 of this chapter will be eliminated by the promulgation of an approval by the Administrator of a revision to the Illinois State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Illinois and for which requirements are set forth under the Federal CAIR NOX Ozone Season Trading Program in subparts AAAA through IIII of part 97 of this chapter must comply with such applicable requirements. The obligation to comply with these requirements in part 97 of this chapter will be eliminated by the promulgation of an approval by the Administrator of a revision to the Illinois State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

17. Section 52.746 is revised to read as follows:

§ 52.746 Interstate pollutant transport provisions; What are the FIP requirements for decreases in emissions of sulfur dioxide?

The owner and operator of each SO2 source located within the State of Illinois and for which requirements are set forth under the Federal CAIR SO2 Trading Program in subparts AAA through III of part 97 of this chapter must comply with such applicable requirements. The obligation to comply with these requirements in part 97 of this chapter will be eliminated by the promulgation of an approval by the Administrator of a revision to the Illinois State Implementation Plan as meeting the requirements of CAIR for PM2.5 relating to SO2 under § 51.124 of this chapter, except to the extent the Administrator's approval is partial or conditional or unless such approval is under § 51.124(r) of this chapter.

Subpart P—Indiana

18. Section 52.789 is revised to read as follows:

§ 52.789 Interstate pollutant transport provisions; What are the FIP requirements for decreases in emissions of nitrogen oxides?

(a)(1) The owner and operator of each source located within the State of Indiana and for which requirements are set forth under the Federal CAIR NOX Annual Trading Program in subparts AA through II of part 97 of this chapter must comply with such applicable requirements. The obligation to comply with these requirements in part 97 of this chapter will be eliminated by the promulgation of an approval by the Administrator of a revision to the Indiana State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Indiana and for which requirements are set forth under the Federal CAIR NOX Ozone Season Trading Program in subparts AAAA through IIII of part 97 of this chapter must comply with such applicable requirements. The obligation to comply with these requirements in part 97 of this chapter will be eliminated by the promulgation of an approval by the Administrator of a revision to the Indiana State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

19. Section 52.790 is revised to read as follows:

§ 52.790 Interstate pollutant transport provisions; What are the FIP requirements for decreases in emissions of sulfur dioxide?

The owner and operator of each SO2 source located within the State of Indiana and for which requirements are set forth under the Federal CAIR SO2 Trading Program in subparts AAA through III of part 97 of this chapter must comply with such applicable requirements. The obligation to comply with these requirements in part 97 of this chapter will be eliminated by the promulgation of an approval by the Administrator of a revision to the Indiana State Implementation Plan as meeting the requirements of CAIR for PM2.5 relating to SO2 under § 51.124 of this chapter, except to the extent the Administrator's approval is partial or conditional or unless such approval is under § 51.124(r) of this chapter.

Subpart Q—Iowa

20. Section 52.840 is revised to read as follows:

§ 52.840 Interstate pollutant transport provisions; What are the FIP requirements for decreases in emissions of nitrogen oxides?

(a)(1) The owner and operator of each source located within the State of Iowa and for which requirements are set forth under the Federal CAIR NOX Annual Trading Program in subparts AA through II of part 97 of this chapter must comply with such applicable requirements. The obligation to comply with these requirements in part 97 of this chapter will be eliminated by the promulgation of an approval by the Administrator of a revision to the Iowa State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Iowa and for which requirements are set forth under the Federal CAIR NOX Ozone Season Trading Program in subparts AAAA through IIII of part 97 of this chapter must comply with such applicable requirements. The obligation to comply with these requirements in part 97 of this chapter will be eliminated by the promulgation of an approval by the Administrator of a revision to the Iowa State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

21. Section 52.841 is revised to read as follows:

§ 52.841 Interstate pollutant transport provisions; What are the FIP requirements for decreases in emissions of sulfur dioxide?

The owner and operator of each SO2 source located within the State of Iowa and for which requirements are set forth under the Federal CAIR SO2 Trading Program in subparts AAA through III of part 97 of this chapter must comply with such applicable requirements. The obligation to comply with these requirements in part 97 of this chapter will be eliminated by the promulgation of an approval by the Administrator of a revision to the Iowa State Implementation Plan as meeting the requirements of CAIR for PM2.5 relating to SO2 under § 51.124 of this chapter, except to the extent the Administrator's approval is partial or conditional or unless such approval is under § 51.124(r) of this chapter.

Subpart S—Kentucky

22. Section 52.940 is revised to read as follows:

§ 52.940 Interstate pollutant transport provisions; What are the FIP requirements for decreases in emissions of nitrogen oxides?

(a)(1) The owner and operator of each source located within the State of Kentucky and for which requirements are set forth under the Federal CAIR NOX Annual Trading Program in subparts AA through II of part 97 of this chapter must comply with such applicable requirements. The obligation to comply with these requirements in part 97 of this chapter will be eliminated by the promulgation of an approval by the Administrator of a revision to the Kentucky State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Kentucky and for which requirements are set forth under the Federal CAIR NOX Ozone Season Trading Program in subparts AAAA through IIII of part 97 of this chapter must comply with such applicable requirements. The obligation to comply with these requirements in part 97 of this chapter will be eliminated by the promulgation of an approval by the Administrator of a revision to the Kentucky State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

23. Section 52.941 is revised to read as follows:

§ 52.941 Interstate pollutant transport provisions; What are the FIP requirements for decreases in emissions of sulfur dioxide?

The owner and operator of each SO2 source located within the State of Kentucky and for which requirements are set forth under the Federal CAIR SO2 Trading Program in subparts AAA through III of part 97 of this chapter must comply with such applicable requirements. The obligation to comply with these requirements in part 97 of this chapter will be eliminated by the promulgation of an approval by the Administrator of a revision to the Kentucky State Implementation Plan as meeting the requirements of CAIR for PM2.5 relating to SO2 under § 51.124 of this chapter, except to the extent the Administrator's approval is partial or conditional or unless such approval is under § 51.124(r) of this chapter.

Subpart T—Louisiana

24. Section 52.984 is revised to read as follows:

§ 52.984 Interstate pollutant transport provisions; What are the FIP requirements for decreases in emissions of nitrogen oxides?

(a)(1) The owner and operator of each source located within the State of Louisiana and for which requirements are set forth under the Federal CAIR NOX Annual Trading Program in subparts AA through II of part 97 of this chapter must comply with such applicable requirements. The obligation to comply with these requirements in part 97 of this chapter will be eliminated by the promulgation of an approval by the Administrator of a revision to the Louisiana State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Louisiana and for which requirements are set forth under the Federal CAIR NOX Ozone Season Trading Program in subparts AAAA through IIII of part 97 of this chapter must comply with such applicable requirements. The obligation to comply with these requirements in part 97 of this chapter will be eliminated by the promulgation of an approval by the Administrator of a revision to the Louisiana State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

25. Section 52.985 is revised to read as follows:

§ 52.985 Interstate pollutant transport provisions; What are the FIP requirements for decreases in emissions of sulfur dioxide?

The owner and operator of each SO2 source located within the State of Louisiana and for which requirements are set forth under the Federal CAIR SO2 Trading Program in subparts AAA through III of part 97 of this chapter must comply with such applicable requirements. The obligation to comply with these requirements in part 97 of this chapter will be eliminated by the promulgation of an approval by the Administrator of a revision to the Louisiana State Implementation Plan as meeting the requirements of CAIR for PM2.5 relating to SO2 under § 51.124 of this chapter, except to the extent the Administrator's approval is partial or conditional or unless such approval is under § 51.124(r) of this chapter.

Subpart V—Maryland

26. Section 52.1084 is revised to read as follows:

§ 52.1084 Interstate pollutant transport provisions; What are the FIP requirements for decreases in emissions of nitrogen oxides?

(a)(1) The owner and operator of each source located within the State of Maryland and for which requirements are set forth under the Federal CAIR NOX Annual Trading Program in subparts AA through II of part 97 of this chapter must comply with such applicable requirements. The obligation to comply with these requirements in part 97 of this chapter will be eliminated by the promulgation of an approval by the Administrator of a revision to the Maryland State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Maryland and for which requirements are set forth under the Federal CAIR NOX Ozone Season Trading Program in subparts AAAA through IIII of part 97 of this chapter must comply with such applicable requirements. The obligation to comply with these requirements in part 97 of this chapter will be eliminated by the promulgation of an approval by the Administrator of a revision to the Maryland State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

27. Section 52.1085 is revised to read as follows:

§ 52.1085 Interstate pollutant transport provisions; What are the FIP requirements for decreases in emissions of sulfur dioxide?

The owner and operator of each SO2 source located within the State of Maryland and for which requirements are set forth under the Federal CAIR SO2 Trading Program in subparts AAA through III of part 97 of this chapter must comply with such applicable requirements. The obligation to comply with these requirements in part 97 of this chapter will be eliminated by the promulgation of an approval by the Administrator of a revision to the Maryland State Implementation Plan as meeting the requirements of CAIR for PM2.5 relating to SO2 under § 51.124 of this chapter, except to the extent the Administrator's approval is partial or conditional or unless such approval is under § 51.124(r) of this chapter.

Subpart W—Massachusetts

28. Section 52.1140 is revised to read as follows:

§ 52.1140 Interstate pollutant transport provisions; What are the FIP requirements for decreases in emissions of nitrogen oxides?

(a)(1) The owner and operator of each NOX source located within the State of Massachusetts and for which requirements are set forth under the Federal CAIR NOX Ozone Season Trading Program in subparts AAAA through IIII of part 97 of this chapter must comply with such applicable requirements. The obligation to comply with these requirements in part 97 of this chapter will be eliminated by the promulgation of an approval by the Administrator of a revision to the Massachusetts State Implementation Plan (SIP) as meeting the requirements of CAIR for ozone relating to NOX under § 51.123 of this chapter, except to the extent the Administrator's approval is partial or conditional or unless such approval is under § 51.123(ee) of this chapter.

(2) Notwithstanding any provisions of paragraph (a)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

(b) [Reserved]

Subpart X—Michigan

29. Section 52.1186 is revised to read as follows:

§ 52.1186 Interstate pollutant transport provisions; What are the FIP requirements for decreases in emissions of nitrogen oxides?

(a)(1) The owner and operator of each source located within the State of Michigan and for which requirements are set forth under the Federal CAIR NOX Annual Trading Program in subparts AA through II of part 97 of this chapter must comply with such applicable requirements. The obligation to comply with these requirements in part 97 of this chapter will be eliminated by the promulgation of an approval by the Administrator of a revision to the Michigan State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Michigan and for which requirements are set forth under the Federal CAIR NOX Ozone Season Trading Program in subparts AAAA through IIII of part 97 of this chapter must comply with such applicable requirements. The obligation to comply with these requirements in part 97 of this chapter will be eliminated by the promulgation of an approval by the Administrator of a revision to the Michigan State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

30. Section 52.1187 is revised to read as follows:

§ 52.1187 Interstate pollutant transport provisions; What are the FIP requirements for decreases in emissions of sulfur dioxide?

The owner and operator of each SO2 source located within the State of Michigan and for which requirements are set forth under the Federal CAIR SO2 Trading Program in subparts AAA through III of part 97 of this chapter must comply with such applicable requirements. The obligation to comply with these requirements in part 97 of this chapter will be eliminated by the promulgation of an approval by the Administrator of a revision to the Michigan State Implementation Plan as meeting the requirements of CAIR for PM2.5 relating to SO2 under § 51.124 of this chapter, except to the extent the Administrator's approval is partial or conditional or unless such approval is under § 51.124(r) of this chapter.

Subpart Y—Minnesota

31. Section 52.1240 is revised to read as follows:

§ 52.1240 Interstate pollutant transport provisions; What are the FIP requirements for decreases in emissions of nitrogen oxides?

(a)(1) The owner and operator of each source located within the State of Minnesota and for which requirements are set forth under the Federal CAIR NOX Annual Trading Program in subparts AA through II of part 97 of this chapter must comply with such applicable requirements. The obligation to comply with these requirements in part 97 of this chapter will be eliminated by the promulgation of an approval by the Administrator of a revision to the Minnesota State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

32. Section 52.1241 is revised to read as follows:

§ 52.1241 Interstate pollutant transport provisions; What are the FIP requirements for decreases in emissions of sulfur dioxide?

The owner and operator of each SO2 source located within the State of Minnesota and for which requirements are set forth under the Federal CAIR SO2 Trading Program in subparts AAA through III of part 97 of this chapter must comply with such applicable requirements. The obligation to comply with these requirements in part 97 of this chapter will be eliminated by the promulgation of an approval by the Administrator of a revision to the Minnesota State Implementation Plan as meeting the requirements of CAIR for PM2.5 relating to SO2 under § 51.124 of this chapter, except to the extent the Administrator's approval is partial or conditional or unless such approval is under § 51.124(r) of this chapter.

Subpart Z—Mississippi

33. Section 52.1284 is revised to read as follows:

§ 52.1284 Interstate pollutant transport provisions; What are the FIP requirements for decreases in emissions of nitrogen oxides?

(a)(1) The owner and operator of each source located within the State of Mississippi and for which requirements are set forth under the Federal CAIR NOX Annual Trading Program in subparts AA through II of part 97 of this chapter must comply with such applicable requirements. The obligation to comply with these requirements in part 97 of this chapter will be eliminated by the promulgation of an approval by the Administrator of a revision to the Mississippi State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Mississippi and for which requirements are set forth under the Federal CAIR NOX Ozone Season Trading Program in subparts AAAA through IIII of part 97 of this chapter must comply with such applicable requirements. The obligation to comply with these requirements in part 97 of this chapter will be eliminated by the promulgation of an approval by the Administrator of a revision to the Mississippi State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

34. Section 52.1285 is revised to read as follows:

§ 52.1285 Interstate pollutant transport provisions; What are the FIP requirements for decreases in emissions of sulfur dioxide?

The owner and operator of each SO2 source located within the State of Mississippi and for which requirements are set forth under the Federal CAIR SO2 Trading Program in subparts AAA through III of part 97 of this chapter must comply with such applicable requirements. The obligation to comply with these requirements in part 97 of this chapter will be eliminated by the promulgation of an approval by the Administrator of a revision to the Mississippi State Implementation Plan as meeting the requirements of CAIR for PM2.5 relating to SO2 under § 51.124 of this chapter, except to the extent the Administrator's approval is partial or conditional or unless such approval is under § 51.124(r) of this chapter.

Subpart AA—Missouri

35. Section 52.1341 is revised to read as follows:

§ 52.1341 Interstate pollutant transport provisions; What are the FIP requirements for decreases in emissions of nitrogen oxides?

(a)(1) The owner and operator of each source located within the State of Missouri and for which requirements are set forth under the Federal CAIR NOX Annual Trading Program in subparts AA through II of part 97 of this chapter must comply with such applicable requirements. The obligation to comply with these requirements in part 97 of this chapter will be eliminated by the promulgation of an approval by the Administrator of a revision to the Missouri State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Missouri and for which requirements are set forth under the Federal CAIR NOX Ozone Season Trading Program in subparts AAAA through IIII of part 97 of this chapter must comply with such applicable requirements. The obligation to comply with these requirements in part 97 of this chapter will be eliminated by the promulgation of an approval by the Administrator of a revision to the Missouri State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

36. Section 52.1342 is revised to read as follows:

§ 52.1342 Interstate pollutant transport provisions; What are the FIP requirements for decreases in emissions of sulfur dioxide?

The owner and operator of each SO2 source located within the State of Missouri and for which requirements are set forth under the Federal CAIR SO2 Trading Program in subparts AAA through III of part 97 of this chapter must comply with such applicable requirements. The obligation to comply with these requirements in part 97 of this chapter will be eliminated by the promulgation of an approval by the Administrator of a revision to the Missouri State Implementation Plan as meeting the requirements of CAIR for PM2.5 relating to SO2 under § 51.124 of this chapter, except to the extent the Administrator's approval is partial or conditional or unless such approval is under § 51.124(r) of this chapter.

Subpart FF—New Jersey

37. Section 52.1584 is revised to read as follows:

§ 52.1584 Interstate pollutant transport provisions; What are the FIP requirements for decreases in emissions of nitrogen oxides?

(a)(1) The owner and operator of each source located within the State of New Jersey and for which requirements are set forth under the Federal CAIR NOX Annual Trading Program in subparts AA through II of part 97 of this chapter must comply with such applicable requirements. The obligation to comply with these requirements in part 97 of this chapter will be eliminated by the promulgation of an approval by the Administrator of a revision to the New Jersey State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of New Jersey and for which requirements are set forth under the Federal CAIR NOX Ozone Season Trading Program in subparts AAAA through IIII of part 97 of this chapter must comply with such applicable requirements. The obligation to comply with these requirements in part 97 of this chapter will be eliminated by the promulgation of an approval by the Administrator of a revision to the New Jersey State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

38. Section 52.1585 is revised to read as follows:

§ 52.1585 Interstate pollutant transport provisions; What are the FIP requirements for decreases in emissions of sulfur dioxide?

The owner and operator of each SO2 source located within the State of New Jersey and for which requirements are set forth under the Federal CAIR SO2 Trading Program in subparts AAA through III of part 97 of this chapter must comply with such applicable requirements. The obligation to comply with these requirements in part 97 of this chapter will be eliminated by the promulgation of an approval by the Administrator of a revision to the New Jersey State Implementation Plan as meeting the requirements of CAIR for PM2.5 relating to SO2 under § 51.124 of this chapter, except to the extent the Administrator's approval is partial or conditional or unless such approval is under § 51.124(r) of this chapter.

Subpart HH—New York

39. Section 52.1684 is revised to read as follows:

§ 52.1684 Interstate pollutant transport provisions; What are the FIP requirements for decreases in emissions of nitrogen oxides?

(a)(1) The owner and operator of each source located within the State of New York and for which requirements are set forth under the Federal CAIR NOX Annual Trading Program in subparts AA through II of part 97 of this chapter must comply with such applicable requirements. The obligation to comply with these requirements in part 97 of this chapter will be eliminated by the promulgation of an approval by the Administrator of a revision to the New York State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of New York and for which requirements are set forth under the Federal CAIR NOX Ozone Season Trading Program in subparts AAAA through IIII of part 97 of this chapter must comply with such applicable requirements. The obligation to comply with these requirements in part 97 of this chapter will be eliminated by the promulgation of an approval by the Administrator of a revision to the New York State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

40. Section 52.1685 is revised to read as follows:

§ 52.1685 Interstate pollutant transport provisions; What are the FIP requirements for decreases in emissions of sulfur dioxide?

The owner and operator of each SO2 source located within the State of New York and for which requirements are set forth under the Federal CAIR SO2 Trading Program in subparts AAA through III of part 97 of this chapter must comply with such applicable requirements. The obligation to comply with these requirements in part 97 of this chapter will be eliminated by the promulgation of an approval by the Administrator of a revision to the New York State Implementation Plan as meeting the requirements of CAIR for PM2.5 relating to SO2 under § 51.124 of this chapter, except to the extent the Administrator's approval is partial or conditional or unless such approval is under § 51.124(r) of this chapter.

Subpart II—North Carolina

41. Section 52.1784 is revised to read as follows:

§ 52.1784 Interstate pollutant transport provisions; What are the FIP requirements for decreases in emissions of nitrogen oxides?

(a)(1) The owner and operator of each source located within the State of North Carolina and for which requirements are set forth under the Federal CAIR NOX Annual Trading Program in subparts AA through II of part 97 of this chapter must comply with such applicable requirements. The obligation to comply with these requirements in part 97 of this chapter will be eliminated by the promulgation of an approval by the Administrator of a revision to the North Carolina State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of North Carolina and for which requirements are set forth under the Federal CAIR NOX Ozone Season Trading Program in subparts AAAA through IIII of part 97 of this chapter must comply with such applicable requirements. The obligation to comply with these requirements in part 97 of this chapter will be eliminated by the promulgation of an approval by the Administrator of a revision to the North Carolina State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

42. Section 52.1785 is revised to read as follows:

§ 52.1785 Interstate pollutant transport provisions; What are the FIP requirements for decreases in emissions of sulfur dioxide?

The owner and operator of each SO2 source located within the State of North Carolina and for which requirements are set forth under the Federal CAIR SO2 Trading Program in subparts AAA through III of part 97 of this chapter must comply with such applicable requirements. The obligation to comply with these requirements in part 97 of this chapter will be eliminated by the promulgation of an approval by the Administrator of a revision to the North Carolina State Implementation Plan as meeting the requirements of CAIR for PM2.5 relating to SO2 under § 51.124 of this chapter, except to the extent the Administrator's approval is partial or conditional or unless such approval is under § 51.124(r) of this chapter.

Subpart KK—Ohio

43. Section 52.1891 is revised to read as follows:

§ 52.1891 Interstate pollutant transport provisions; What are the FIP requirements for decreases in emissions of nitrogen oxides?

(a)(1) The owner and operator of each source located within the State of Ohio and for which requirements are set forth under the Federal CAIR NOX Annual Trading Program in subparts AA through II of part 97 of this chapter must comply with such applicable requirements. The obligation to comply with these requirements in part 97 of this chapter will be eliminated by the promulgation of an approval by the Administrator of a revision to the Ohio State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Ohio and for which requirements are set forth under the Federal CAIR NOX Ozone Season Trading Program in subparts AAAA through IIII of part 97 of this chapter must comply with such applicable requirements. The obligation to comply with these requirements in part 97 of this chapter will be eliminated by the promulgation of an approval by the Administrator of a revision to the Ohio State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

44. Section 52.1892 is revised to read as follows:

§ 52.1892 Interstate pollutant transport provisions; What are the FIP requirements for decreases in emissions of sulfur dioxide?

The owner and operator of each SO2 source located within the State of Ohio and for which requirements are set forth under the Federal CAIR SO2 Trading Program in subparts AAA through III of part 97 of this chapter must comply with such applicable requirements. The obligation to comply with these requirements in part 97 of this chapter will be eliminated by the promulgation of an approval by the Administrator of a revision to the Ohio State Implementation Plan as meeting the requirements of CAIR for PM2.5 relating to SO2 under § 51.124 of this chapter, except to the extent the Administrator's approval is partial or conditional or unless such approval is under § 51.124(r) of this chapter.

Subpart NN—Pennsylvania

45. Section 52.2040 is revised to read as follows:

§ 52.2040 Interstate pollutant transport provisions; What are the FIP requirements for decreases in emissions of nitrogen oxides?

(a)(1) The owner and operator of each source located within the State of Pennsylvania and for which requirements are set forth under the Federal CAIR NOX Annual Trading Program in subparts AA through II of part 97 of this chapter must comply with such applicable requirements. The obligation to comply with these requirements in part 97 of this chapter will be eliminated by the promulgation of an approval by the Administrator of a revision to the Pennsylvania State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Pennsylvania and for which requirements are set forth under the Federal CAIR NOX Ozone Season Trading Program in subparts AAAA through IIII of part 97 of this chapter must comply with such applicable requirements. The obligation to comply with these requirements in part 97 of this chapter will be eliminated by the promulgation of an approval by the Administrator of a revision to the Pennsylvania State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

46. Section 52.2041 is revised to read as follows:

§ 52.2041 Interstate pollutant transport provisions; What are the FIP requirements for decreases in emissions of sulfur dioxide?

The owner and operator of each SO2 source located within the State of Pennsylvania and for which requirements are set forth under the Federal CAIR SO2 Trading Program in subparts AAA through III of part 97 of this chapter must comply with such applicable requirements. The obligation to comply with these requirements in part 97 of this chapter will be eliminated by the promulgation of an approval by the Administrator of a revision to the Pennsylvania State Implementation Plan as meeting the requirements of CAIR for PM2.5 relating to SO2 under § 51.124 of this chapter, except to the extent the Administrator's approval is partial or conditional or unless such approval is under § 51.124(r) of this chapter.

Subpart PP—South Carolina

47. Section 52.2140 is revised to read as follows:

§ 52.2140 Interstate pollutant transport provisions; What are the FIP requirements for decreases in emissions of nitrogen oxides?

(a)(1) The owner and operator of each source located within the State of South Carolina and for which requirements are set forth under the Federal CAIR NOX Annual Trading Program in subparts AA through II of part 97 of this chapter must comply with such applicable requirements. The obligation to comply with these requirements in part 97 of this chapter will be eliminated by the promulgation of an approval by the Administrator of a revision to the South Carolina State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of South Carolina and for which requirements are set forth under the Federal CAIR NOX Ozone Season Trading Program in subparts AAAA through IIII of part 97 of this chapter must comply with such applicable requirements. The obligation to comply with these requirements in part 97 of this chapter will be eliminated by the promulgation of an approval by the Administrator of a revision to the South Carolina State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

48. Section 52.2141 is revised to read as follows:

§ 52.2141 Interstate pollutant transport provisions; What are the FIP requirements for decreases in emissions of sulfur dioxide?

The owner and operator of each SO2 source located within the State of South Carolina and for which requirements are set forth under the Federal CAIR SO2 Trading Program in subparts AAA through III of part 97 of this chapter must comply with such applicable requirements. The obligation to comply with these requirements in part 97 of this chapter will be eliminated by the promulgation of an approval by the Administrator of a revision to the South Carolina State Implementation Plan as meeting the requirements of CAIR for PM2.5 relating to SO2 under § 51.124 of this chapter, except to the extent the Administrator's approval is partial or conditional or unless such approval is under § 51.124(r) of this chapter.

Subpart RR—Tennessee

49. Section 52.2240 is revised to read as follows:

§ 52.2240 Interstate pollutant transport provisions; What are the FIP requirements for decreases in emissions of nitrogen oxides?

(a)(1) The owner and operator of each source located within the State of Tennessee and for which requirements are set forth under the Federal CAIR NOX Annual Trading Program in subparts AA through II of part 97 of this chapter must comply with such applicable requirements. The obligation to comply with these requirements in part 97 of this chapter will be eliminated by the promulgation of an approval by the Administrator of a revision to the Tennessee State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Tennessee and for which requirements are set forth under the Federal CAIR NOX Ozone Season Trading Program in subparts AAAA through IIII of part 97 of this chapter must comply with such applicable requirements. The obligation to comply with these requirements in part 97 of this chapter will be eliminated by the promulgation of an approval by the Administrator of a revision to the Tennessee State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

50. Section 52.2241 is revised to read as follows:

§ 52.2241 Interstate pollutant transport provisions; What are the FIP requirements for decreases in emissions of sulfur dioxide?

The owner and operator of each SO2 source located within the State of Tennessee and for which requirements are set forth under the Federal CAIR SO2 Trading Program in subparts AAA through III of part 97 of this chapter must comply with such applicable requirements. The obligation to comply with these requirements in part 97 of this chapter will be eliminated by the promulgation of an approval by the Administrator of a revision to the Tennessee State Implementation Plan as meeting the requirements of CAIR for PM2.5 relating to SO2 under § 51.124 of this chapter, except to the extent the Administrator's approval is partial or conditional or unless such approval is under § 51.124(r) of this chapter.

Subpart SS—Texas

51. Section 52.2283 is revised to read as follows:

§ 52.2283 Interstate pollutant transport provisions; What are the FIP requirements for decreases in emissions of nitrogen oxides?

(a)(1) The owner and operator of each source located within the State of Texas and for which requirements are set forth under the Federal CAIR NOX Annual Trading Program in subparts AA through II of part 97 of this chapter must comply with such applicable requirements. The obligation to comply with these requirements in part 97 of this chapter will be eliminated by the promulgation of an approval by the Administrator of a revision to the Texas State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b) [Reserved]

52. Section 52.2284 is revised to read as follows:

§ 52.2284 Interstate pollutant transport provisions; What are the FIP requirements for decreases in emissions of sulfur dioxide?

The owner and operator of each SO2 source located within the State of Texas and for which requirements are set forth under the Federal CAIR SO2 Trading Program in subparts AAA through III of part 97 of this chapter must comply with such applicable requirements. The obligation to comply with these requirements in part 97 of this chapter will be eliminated by the promulgation of an approval by the Administrator of a revision to the Texas State Implementation Plan as meeting the requirements of CAIR for PM2.5 relating to SO2 under § 51.124 of this chapter, except to the extent the Administrator's approval is partial or conditional or unless such approval is under § 51.124(r) of this chapter.

Subpart VV—Virginia

53. Section 52.2440 is revised to read as follows:

§ 52.2440 Interstate pollutant transport provisions; What are the FIP requirements for decreases in emissions of nitrogen oxides?

(a)(1) The owner and operator of each source located within the State of Virginia and for which requirements are set forth under the Federal CAIR NOX Annual Trading Program in subparts AA through II of part 97 of this chapter must comply with such applicable requirements. The obligation to comply with these requirements in part 97 of this chapter will be eliminated by the promulgation of an approval by the Administrator of a revision to the Virginia State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Virginia and for which requirements are set forth under the Federal CAIR NOX Ozone Season Trading Program in subparts AAAA through IIII of part 97 of this chapter must comply with such applicable requirements. The obligation to comply with these requirements in part 97 of this chapter will be eliminated by the promulgation of an approval by the Administrator of a revision to the Virginia State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

54. Section 52.2441 is revised to read as follows:

§ 52.2441 Interstate pollutant transport provisions; What are the FIP requirements for decreases in emissions of sulfur dioxide?

The owner and operator of each SO2 source located within the State of Virginia and for which requirements are set forth under the Federal CAIR SO2 Trading Program in subparts AAA through III of part 97 of this chapter must comply with such applicable requirements. The obligation to comply with these requirements in part 97 of this chapter will be eliminated by the promulgation of an approval by the Administrator of a revision to the Virginia State Implementation Plan as meeting the requirements of CAIR for PM2.5 relating to SO2 under § 51.124 of this chapter, except to the extent the Administrator's approval is partial or conditional or unless such approval is under § 51.124(r) of this chapter.

Subpart XX—West Virginia

55. Section 52.2540 is revised to read as follows:

§ 52.2540 Interstate pollutant transport provisions; What are the FIP requirements for decreases in emissions of nitrogen oxides?

(a)(1) The owner and operator of each source located within the State of West Virginia and for which requirements are set forth under the Federal CAIR NOX Annual Trading Program in subparts AA through II of part 97 of this chapter must comply with such applicable requirements. The obligation to comply with these requirements in part 97 of this chapter will be eliminated by the promulgation of an approval by the Administrator of a revision to the West Virginia State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of West Virginia and for which requirements are set forth under the Federal CAIR NOX Ozone Season Trading Program in subparts AAAA through IIII of part 97 of this chapter must comply with such applicable requirements. The obligation to comply with these requirements in part 97 of this chapter will be eliminated by the promulgation of an approval by the Administrator of a revision to the West Virginia State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

56. Section 52.2541 is revised to read as follows:

§ 52.2541 Interstate pollutant transport provisions; What are the FIP requirements for decreases in emissions of sulfur dioxide?

The owner and operator of each SO2 source located within the State of West Virginia and for which requirements are set forth under the Federal CAIR SO2 Trading Program in subparts AAA through III of part 97 of this chapter must comply with such applicable requirements. The obligation to comply with these requirements in part 97 of this chapter will be eliminated by the promulgation of an approval by the Administrator of a revision to the West Virginia State Implementation Plan as meeting the requirements of CAIR for PM2.5 relating to SO2 under § 51.124 of this chapter, except to the extent the Administrator's approval is partial or conditional or unless such approval is under § 51.124(r) of this chapter.

Subpart YY—Wisconsin

57. Section 52.2587 is revised to read as follows:

§ 52.2587 Interstate pollutant transport provisions; What are the FIP requirements for decreases in emissions of nitrogen oxides?

(a)(1) The owner and operator of each source located within the State of Wisconsin and for which requirements are set forth under the Federal CAIR NOX Annual Trading Program in subparts AA through II of part 97 of this chapter must comply with such applicable requirements. The obligation to comply with these requirements in part 97 of this chapter will be eliminated by the promulgation of an approval by the Administrator of a revision to the Wisconsin State Implementation Plan (SIP) as meeting the requirements of CAIR for PM2.5 relating to NOX under § 51.123 of this chapter, except to the extent the Administrator's approval is partial or conditional or unless such approval is under § 51.123(p) of this chapter.

(2) Notwithstanding any provisions of paragraph (a)(1) of this section, if, at the time of such approval of the State's SIP, the Administrator has already allocated CAIR NOX allowances to sources in the State for any years, the provisions of part 97 of this chapter authorizing the Administrator to complete the allocation of CAIR NOX allowances for those years shall continue to apply, unless the Administrator approves a SIP provision that provides for the allocation of the remaining CAIR NOX allowances for those years.

(b)(1) The owner and operator of each NOX source located within the State of Wisconsin and for which requirements are set forth under the Federal CAIR NOX Ozone Season Trading Program in subparts AAAA through IIII of part 97 of this chapter must comply with such applicable requirements. The obligation to comply with these requirements in part 97 of this chapter will be eliminated by the promulgation of an approval by the Administrator of a revision to the Wisconsin State Implementation Plan (SIP) as meeting the requirements of CAIR for ozone relating to NOX under § 51.123 of this chapter, except to the extent the Administrator's approval is partial or conditional or unless such approval is under § 51.123(ee) of this chapter.

(2) Notwithstanding any provisions of paragraph (b)(1) of this section, if, at the time of such approval of the State's SIP, the Administrator has already allocated CAIR NOX Ozone Season allowances to sources in the State for any years, the provisions of part 97 of this chapter authorizing the Administrator to complete the allocation of CAIR NOX Ozone Season allowances for those years shall continue to apply, unless the Administrator approves a SIP provision that provides for the allocation of the remaining CAIR NOX Ozone Season allowances for those years.

58. Section 52.2588 is revised to read as follows:

§ 52.2588 Interstate pollutant transport provisions; What are the FIP requirements for decreases in emissions of sulfur dioxide?

The owner and operator of each SO2 source located within the State of Wisconsin and for which requirements are set forth under the Federal CAIR SO2 Trading Program in subparts AAA through III of part 97 of this chapter must comply with such applicable requirements. The obligation to comply with these requirements in part 97 of this chapter will be eliminated by the promulgation of an approval by the Administrator of a revision to the Wisconsin State Implementation Plan as meeting the requirements of CAIR for PM2.5 relating to SO2 under § 51.124 of this chapter, except to the extent the Administrator's approval is partial or conditional or unless such approval is under § 51.124(r) of this chapter.

[FR Doc. E7-20849 Filed 11-1-07; 8:45 am]

BILLING CODE 6560-50-P